DEPARTMENT OF TRANSPORTATION

Federal Aviation Administration

Notice of Intent To Request Revision From the Office of Management and Budget of a Currently Approved Information Collection Activity, Request for Comments; Certification of Airports, 14 CFR Part 139.

AGENCY: Federal Aviation Administration (FAA), DoT.

ACTION: Notice and request for comments.

SUMMARY: The FAA invites public comments about our intention to request the Office of Management and Budget (OMB) to approve a current information collection. This rule revised the airport certification regulations and establishes certification requirements for airports serving scheduled air carrier operations in aircraft with 10-30 seats.

DATES: Please submit comments by February 4, 2008.

FOR FURTHER INFORMATION CONTACT: Carla Mauney on (202) 267-9895, or by e-mail at: Carla.Mauney@faa.gov.

SUPPLEMENTARY INFORMATION:

Federal Aviation Administration (FAA)

Type: Certification of Airports, 14 CFR part 139.

Type of Request: Extension without change of an approved collection.

OMB Control Number: 2120-0675.

Forms(s): 5280-1.

Affected Public: A total of 600 Respondents.

Frequency: The information is collected on occasion.

Estimated Average Burden Per Response: Approximately 22 hours per response.

Estimated Annual Burden Hours: An estimated 52,993 hours annually.

Abstract: This rule revised the airport certification regulations and establishes certification requirements for airports serving scheduled air carrier operations in aircraft with 10-30 seats. The changes to 14 CFR Part 139 result in additional information collections from respondents.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on November 29, 2007.
Carla Mauney,
FAA Information Collection Clearance Officer, IT Enterprises Business Services Division, AES-200.

[FR Doc. 07-5960 Filed 12-05-07; 8:45 am]

BILLING CODE 4910-13-M